DEPARTMENT OF COMMERCE

National Oceanic and Atmospheric Administration

RIN 0648-XD023

Fisheries of the Caribbean, Gulf of Mexico, and South Atlantic; Amendment 40 to the Fishery Management Plan for the Reef Fish Resources of the Gulf of Mexico

AGENCY: National Marine Fisheries Service (NMFS), National Oceanic and Atmospheric Administration (NOAA), Commerce.

ACTION: Notice of intent (NOI) to prepare a draft environmental impact statement (DEIS); scoping; request for comments.

SUMMARY: NMFS, Southeast Region, in collaboration with the Gulf of Mexico Fishery Management Council (Council) intends to prepare a DEIS to describe and analyze management alternatives to be included in Amendment 40 to the Fishery Management Plan (FMP) for the Reef Fish Resources of the Gulf of Mexico (Amendment 40). Amendment 40 will consider alternatives to define private and for-hire components of the recreational red snapper fishery and allocate red snapper resources between these components. The purpose of Amendment 40 is to increase the stability for the for-hire component, provide a basis for increased flexibility in future management of the recreational sector, and reduce the chance for recreational quota overruns which could affect rebuilding of the red snapper stock. The purpose of this NOI is to solicit public comments on the scope of issues to be addressed in the DEIS, as specified in this notice. The Council will continue to take comments on this action as it develops Amendment 40. The next Council meeting where public comment is scheduled will be February 3-7, 2014, at the Westin Galleria Houston, 5060 W. Alabama Street, Houston, TX 77056.

DATES: Written comments on the scope of issues to be addressed in the DEIS must be received by NMFS by January 23, 2014.

ADDRESSES: You may submit comments on Amendment 40 identified by “NOAA-NMFS-2013-0178” by any of the following methods:

• Electronic submissions: Submit electronic comments via the Federal e-Rulemaking Portal: http://www.regulations.gov. Go to www.regulations.gov/#!docketDetail;D=NOAA-NMFS-2013-0178, click the “Comment Now!” icon, complete the required fields, and enter or attach your comments.

• Mail: Submit written comments to Peter Hood, Southeast Regional Office, NMFS, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

FOR FURTHER INFORMATION CONTACT: Peter Hood, Southeast Regional Office, telephone: (727) 824-5305; or email: peter.hood@noaa.gov.

SUPPLEMENTARY INFORMATION: The red snapper stock is currently overfished and under a rebuilding plan. The commercial sector is managed under an individual fishing quota program that keeps the sector from exceeding its quota. The recreational sector is managed under a quota and NMFS projects the season length based on the quota and recent years' harvest trends. Due to the uncertainty in estimating recreational catches, the recreational sector has experienced quota overages in the last several years. The Council and NMFS have determined that separating the recreational sector into more than one component and establishing separate red snapper recreational sub-quotas for the different components may be one method to improve the management of recreational red snapper harvest.

The recreational sector for red snapper includes a private recreational component and a for-hire component. The for-hire component includes headboats and charter vessels. Current recreational management measures such as season length, daily bag limits, and size limits are applied to the recreational sector as a whole, without making a distinction between the private and for-hire components.

The for-hire component includes vessels that have a Federal reef fish permit and may fish for reef fish in Federal waters and state waters, as well as vessels that do not have a Federal reef fish permit and may only fish for reef fish in state waters. Federal reef fish for-hire permits were first issued in 1996. In 2004, a moratorium on the issuance of new permits was implemented (i.e., a cap was placed on the number of vessel permits issued) because of concern that this component of the fishery was expanding too fast. There is no limit to the number of state-permitted for-hire vessels.

There is also no limit to the number of private angler vessels that may target reef fish species including red snapper. Over time, there has been an increase in the number of private recreational vessels, while the number of Federal for-hire vessels has decreased. This change in vessel demographics has resulted in private vessels landing proportionally more of the red snapper recreational quota than Federal for-hire vessels in recent years. For example, in 2004 when the reef fish for-hire permit moratorium was implemented, approximately 55 percent of the recreational red snapper quota was landed by Federal for-hire vessels and 45 percent was landed by private vessels. In 2011, approximately 33 percent of the recreational red snapper quota was landed by Federal for-hire vessels and 67 percent was landed by private vessels.

The Council and NMFS are currently considering four actions in Amendment 40. These actions would define the different components of the recreational sector, determine how the quota would be split among the components, determine whether participation in the for-hire component would be mandatory or voluntary, and determine quota closure options for the different recreational components. The Council and NMFS may add actions in the future, such as landing reporting requirements, after the scoping process or from future discussions on this amendment.

NMFS, in collaboration with the Council, will develop a DEIS to describe and analyze alternatives to address the management needs described above including the “no action” alternative. In accordance with NOAA's Administrative Order 216-6, Section 5.02(c), Scoping Process, NMFS, in collaboration with the Council, has identified preliminary environmental issues as a means to initiate discussion for scoping purposes only. The public is invited to provide written comments on the preliminary issues, which are identified as actions in the Amendment 40 action guide. These preliminary issues may not represent the full range of issues that eventually will be evaluated in the DEIS. A copy of the Amendment 40 action guide is available at http://sero.nmfs.noaa.gov/sustainable_fisheries/gulf_fisheries/reef_fish/index.html.

After the DEIS associated with Amendment 40 is completed, it will be filed with the Environmental Protection Agency (EPA). After filing, the EPA will publish a notice of availability (NOA) of the DEIS for public comment in the Federal Register. The DEIS will have a 45-day comment period. This procedure is pursuant to regulations issued by the Council on Environmental Quality (CEQ) for implementing the procedural provisions of the National Environmental Policy Act (NEPA; 40 CFR parts 1500-1508) and to NOAA's Administrative Order 216-6 regarding NOAA's compliance with NEPA and the CEQ regulations.

The Council and NMFS will consider public comments received on the DEIS in developing the final environmental impact statement (FEIS), and before voting to submit the final amendment to NMFS for Secretarial review, approval, and implementation. NMFS will announce in the Federal Register the availability of the final amendment and FEIS for public review during the Secretarial review period, and will consider all public comments prior to final agency action to approve, disapprove, or partially approve the final amendment. During Secretarial review, NMFS will also file the FEIS with the EPA and the EPA will publish an NOA for the FEIS in the Federal Register.

NMFS will announce, through a document published in the Federal Register, all public comment periods on the final amendment, its proposed implementing regulations, and the availability of its associated FEIS. NMFS will consider all public comments received during the Secretarial review period, whether they are on the final amendment, the proposed regulations, or the FEIS, prior to final agency action.

Authority: 16 U.S.C. 1801 et seq.

Dated: December 18, 2013.
Sean F. Corson,
Acting Deputy Director, Office of Sustainable Fisheries, National Marine Fisheries Service.

[FR Doc. 2013-30694 Filed 12-23-13; 8:45 am]

BILLING CODE 3510-22-P